DEPARTMENT OF THE INTERIOR

Fish and Wildlife Service

Natural Gas Pipeline Right-of-Way Permit Application Crossing the San Bernard National Wildlife Refuge in Brazoria County, Texas

AGENCY: Fish and Wildlife Service, Interior.

ACTION: Notice of application.

SUMMARY: The U.S. Fish and wildlife Service (Service) advises the public that Noble Energy, Inc., of Houston, Texas, has submitted an application to install a 4-inch nominal pipeline for transportation of natural gas across a portion of the San Bernard National Wildlife Refuge, Brazoria County, Texas, which would start from their well located outside of the refuge land. The proposed pipeline to convey the product from the well to tie in to an existing Texas Eastern Transmission (TET) gathering line is located 4,311 feet northwest of the surface location. Of the 4.311 feet, approximately 3,800 feet will traverse refuge lands. Noble plans to construct the pipeline by use of subsurface boring methodology 5 feet to 20 feet below the surface of the land. Noble plans to bore northwesterly a distance from the wellhead to a 70-foot by 75-foot temporary construction staging area, located at GPS coordinates X=3,116474.60 and Y=501,502.22 (NAD 27 Datum) on refuge property; then turning more northwesterly, will bore the remaining distance to the existing TET gathering line located at GPS coordinates X=3,115,926.41 and Y=503,009.25 (NAD 27 Datum). A second 75-foot by 75-foot temporary construction staging area is proposed at the site for the pipeline tap and interconnect. At the interconnect point, approximately 25 feet from the centerline of the TET pipeline, a 30-foot by 30-foot extended use location, meter/valve facility, is proposed to be installed and fenced. An Environmental Analysis and Cultural Resources Review has been prepared and is on file.

This notice informs the public that the Service will be proceeding with the processing of the application, the compatibility determination and the approval processing which includes the preparation of the terms and conditions of the permit.

DATES: Written comments should be received on or before July 17, 2003 to receive consideration by the Service.

ADDRESSES: Comments should be addressed to: Regional Director, U.S. Fish and Wildlife Service, Division of Realty, Attention: Lena V. Marie, P.O. Box 1306, Albuquerque, New Mexico 87103-1306, telephone number 505-248-7411 or FAX 505-248-6803

SUPPLEMENTARY INFORMATION: The Refuge Manager for the San Bernard National Wildlife Refuge has approved the route of the pipeline.

Right-of-way applications for pipelines are to be filed in accordance with Section 28 of the Mineral Leasing Act of 1920 (30 U.S.C.), as amended by the Act of November 16, 1973, (37 Stat. 576, Public Law 93-153).

Dated: May 21, 2003.
Pat A. Langley,
Regional Director.

[FR Doc. 03-15269 Filed 6-16-03; 8:45 am]

BILLING CODE 4310-55-M